DEPARTMENT OF DEFENSE

Office of the Secretary

Membership of the Office of the Secretary of Defense Performance Review Board

AGENCY: Department of Defense.

ACTION: Notice.

SUMMARY: This notice announces the appointment of the members of the Performance Review Board (PRB) of the Office of the Secretary of Defense, to include the Joint Staff, the U.S. Mission to the North Atlantic Treaty Organization, Defense Field Activities, the U.S Court of Appeals and the Armed Forces and the following Defense Agencies: Defense Advance Research Projects Agency, Defense Contract Management Agency, Defense Commissary Agency, Defense Security Service, Defense Security Cooperation Agency, Defense Business Transformation Agency, Defense Legal Services Agency, and Pentagon Force Protection Agency. The publication of PRB membership is required by 5 U.S.C. 4314(c)(4).

The Performance Review Board provides fair and impartial review of Senior Executive and Senior Professional performance appraisals and makes recommendations regarding performance ratings and performance awards to the Secretary of Defense.

DATES: Effective October 26, 2009.

FOR FURTHER INFORMATION CONTACT: Deborah S. Munn, Assistant Director, Human Resources, Washington Headquarters Services, Office of the Secretary of Defense, (703) 699-1869.

SUPPLEMENTARY INFORMATION: In accordance with 5 U.S.C. 4314(c)(4), the following executives are appointed to the Office of Defense PRB with specific PRB panel assignments being made from this group. Executives listed will serve a one-year renewable term, effective October 26, 2009.

Office of the Secretary of Defense

Chairperson: Eric Coulter.

PRB Panel Members
Sheryl McNair | Tim Morgan
Elizabeth McGrath | Paul Hulley
Joseph Angello | Caryn Hollis
William Lowry | Gretchen Anderson
Bonnie Hammersley | Angela Rogers
Joseph Bonnet | Radha Sekar
Christine Condon | Joel Sitrin
Allen Middleton | Kathleen Ott
Jonathan Cofer | Ronald Pontius
Timothy Harp | Janice Haith
Paul S. Koffsky | Susan Shekmar
Diana J Ohman | Debra Filippi
Lydia Moschkin | Richard McCormick
Karen McKenney | Michael Knollmann
Michael Williams | Lisa Disbrow
Craig Glassner | David Fisher
Jeanne Farmer | Melvin Russell
Paul Kozemchak | Susan Yarwood
James Russell | Matthew Schaffer

Dated: October 6, 2009.
Patricia L. Toppings,
OSD Federal Register Liaison Officer, Department of Defense.

[FR Doc. E9-24510 Filed 10-9-09; 8:45 am]

BILLING CODE 5001-06-P